DEPARTMENT OF TRANSPORTATION

Federal Aviation Administration

Notice of Availability of a Draft Environmental Assessment and Public Information Workshop for the Proposed ORD Airport Surveillance Radar, Model 9, West Chicago, IL

AGENCY: Federal Aviation Administration (FAA), DOT.

ACTION: Notice of Availability of a Draft Environmental Assessment and Public Information Workshop for the Proposed ORD Airport Surveillance Radar, Model 9, West Chicago, Illinois.

SUMMARY: The Federal Aviation Administration (FAA) proposes to fund, construct, and operate an Airport Surveillance Radar, Model 9 (ASR-9) to serve the western airspace of O'Hare International Airport (ORD), Chicago, IL. The FAA's preferred alternative is to install the ASR-9 at a site near the corner of Kress and Western Roads on the southeast side of DuPage Airport, in western DuPage County. The purpose and need of the ASR-9 is to enhance air traffic management for ORD to achieve the benefits of providing expanded radar coverage that would allow terminal air traffic control for additional new approach routes, as evaluated and approved in the O'Hare Modernization Environmental Impact Statement/Record of Decision.

The FAA has prepared a Draft Environmental Assessment (EA) document in conformance with requirements of the National Environmental Policy Act (NEPA) and FAA Order 1050.1E, Environmental Impacts: Policies and Procedures. The Draft EA analyzes the potential environmental effects that may result from the construction and operation of the ASR-9. The impacts of the radar are evaluated at the proposed Kress and Western site and alternative sites, including the no action alternative (i.e., not installing the ASR-9). A copy of the Draft EA is available for public review at the following locations:

West Chicago Public Library, 118 West Washington St., West Chicago, IL;

St. Charles Public Library, 1 South Sixth Ave., St. Charles, IL;

Geneva Public Library, 127 James St., Geneva, IL;

DuPage Airport, 2700 International Drive, West Chicago, IL.

The FAA will host a Public Information Meeting on Thursday, March 11, 2010 from 4 p.m. to 8 p.m. at: Hilton Garden Inn St. Charles, 4070 East Main Street, Saint Charles, IL. The public is invited to attend the meeting.

ADDRESSES: The FAA will accept written comments on the Draft EA until close of business on March 26, 2010. Comments on the Draft EA will be accepted at the meeting or may be sent to: Ms. Virginia Marcks, FAA, AJW-C14D, 2300 East Devon Ave., Des Plaines, IL 60018, fax 847-294-7698, e-mail virginia.marcks@faa.gov. Copies of the Draft EA may be obtained by contacting Ms. Virginia Marcks. Comments received on the Draft EA during the public comment period will be addressed in a Final EA.

FOR FURTHER INFORMATION CONTACT: Ms. Virginia Marcks, Manager, Infrastructure Engineering Center, Federal Aviation Administration, 2300 East Devon Avenue, Des Plaines, Illinois 60018. Telephone number: 847-294-7494. E-mail: virginia.marcks@faa.gov.

Issued in Des Plaines, Illinois February 1, 2010.
Virginia Marcks,
Manager, Infrastructure Engineering Center, Chicago, AJW-C14D, Central Service Area.

[FR Doc. 2010-2710 Filed 2-8-10; 8:45 am]

BILLING CODE 4910-13-P